DEPARTMENT OF TRANSPORTATION

Federal Aviation Administration

14 CFR Part 39

[Docket No. FAA-2014-0652; Directorate Identifier 2014-NM-076-AD; Amendment 39-18223; AD 2015-15-13]

RIN 2120-AA64

Airworthiness Directives; Airbus Airplanes

AGENCY: Federal Aviation Administration (FAA), Department of Transportation (DOT).

ACTION: Final rule.

SUMMARY: We are adopting a new airworthiness directive (AD) for certain Airbus Model A319 series airplanes; Model A320-211, -212, -214, -231, -232, and -233 airplanes; and Model A321 series airplanes. This AD was prompted by reports of cracks that could be initiated at the waste water service panel area and the potable water service panel area. This AD requires modification of the potable water service panel and waste water service panel, including doing applicable related investigative and corrective actions. We are issuing this AD to prevent any cracking at the waste water service panel area and the potable water service panel area, which could affect the structural integrity of the airplane.

DATES: This AD becomes effective September 8, 2015.

The Director of the Federal Register approved the incorporation by reference of certain publications listed in this AD as of September 8, 2015.

ADDRESSES: You may examine the AD docket on the Internet at http://www.regulations.gov/#!docketDetail;D=FAA-2014-0652 or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0652.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to certain Airbus Model A319 series airplanes; Model A320-211, -212, -214, -231, -232, and -233 airplanes; and Model A321 series airplanes. The NPRM published in the Federal Register on October 1, 2014 (79 FR 59160).

The European Aviation Safety Agency (EASA), which is the Technical Agent for the Member States of the European Community, has issued EASA Airworthiness Directive 2014-0081, dated March 31, 2014 (referred to after this as the Mandatory Continuing Airworthiness Information, or “the MCAI”), to correct an unsafe condition for certain Airbus Model A319 series airplanes; Model A320-211, -212, -214, -231, -232, and -233 airplanes; and Model A321 series airplanes. The MCAI states:

During the full scale fatigue test on A320-200, it has been noticed that, due to fatigue, cracks could be initiated at the waste water service panel area and the potable water service panel area.

This condition, if not detected and corrected, could affect the structural integrity of the aeroplane.

Prompted by these findings, ALS [airworthiness limitations section] Part 2 tasks have been introduced for the affected A320 family aeroplanes. Since those actions were taken, Airbus developed production mod 160055 and mod 160056 to embody reinforcements (cold working on certain rivet rows) of the potable water and waste water service panels, and published associated Airbus Service Bulletin (SB) A320-53-1272 (retrofit mod 153074) and SB A320-53-1267 (retrofit mod 153073) for in-service embodiment.

Following complementary Design Office studies, it appears that the Sharklet installations on certain aeroplanes have a significant impact on the aeroplane structure (particularly, A319 and A320 post-mod 160001, and A321 post-mod 160021), leading to different compliance times, depending on aeroplane configuration.

For the reasons described above, this [EASA] AD requires reinforcement of the potable water and waste water service panels. Accomplishment of these modifications cancels the need for the related ALS Part 2 Tasks.

The modification includes doing applicable related investigative and corrective actions. Related investigative actions include measuring the diameter of a hole of a fastener and doing a rotating probe inspection. Corrective actions include repairs. You may examine the MCAI in the AD docket on the Internet at http://www.regulations.gov/#!documentDetail;D=FAA-2014-0652-0003.

Comments

We gave the public the opportunity to participate in developing this AD. The following presents the comments received on the NPRM (79 FR 59160, October 1, 2014) and the FAA's response to each comment.

Request To Include Latest Service Information

United Airlines (UAL) and Airbus requested that we revise the NPRM (79 FR 59160, October 1, 2014) to include the latest service information. UAL explained that Airbus Service Bulletin A320-53-1267, Revision 02, dated May 19, 2014, has similar modification requirements to those specified in Airbus Service Bulletin A320-53-1267, Revision 01, dated October 2, 2013, but also has updates including two new airplane configurations, which update compliance times corresponding to the times listed in paragraph (g)(2) of the NPRM. Airbus stated that Airbus Service Bulletin A320-53-1267, Revision 02, dated May 19, 2014, updates the effectivity and compliance times in the service information.

We agree to include Airbus Service Bulletin A320-53-1267, Revision 02, dated May 19, 2014, in this AD. Airbus Service Bulletin A320-53-1267, Revision 02, dated May 19, 2014, was issued to provide updated compliance times and effectivity. Airbus Service Bulletin A320-53-1267, Revision 02, dated May 19, 2014, does not add additional requirements for AD compliance times.

Also, we have added Airbus Service Bulletin A320-53-1267, Revision 01, dated October 2, 2013, to paragraph (j)(2) of this AD to offer credit for the corresponding actions performed before the effective date of this AD.

Request To Omit Paragraph (h) of the NPRM (79 FR 59160, October 1, 2014)

UAL requested that we revise the NPRM (79 FR 59160, October 1, 2014) to omit paragraph (h) of the proposed AD. UAL explained that Task 534126-01-3, of the Airworthiness Limitation Section (ALS) Part 2, “Damage-Tolerant Airworthiness Limitation Items” of the Airbus A319/A320/A321 Airworthiness Limitation Items is addressed separately in other rulemaking, NPRM Docket No. FAA-2013-0692, Directorate Identifier 2012-NM-024-AD (78 FR 49213, August 13, 2013), and that NPRM contains the instructions for the corrective actions in paragraph (o)(2) of that NPRM. UAL concluded that paragraph (h) of the NPRM (79 FR 59160, October 1, 2014), which specifies corrective actions for Task 534126-01-3, might cause confusion. UAL also suggested that, as an alternative to omitting paragraph (h) of NPRM (79 FR 59160, October 1, 2014), paragraph (h) of the NPRM could be revised so that the Task 534126-01-3 requirement refers to the other rulemaking, NPRM Docket No. FAA-2013-0692, Directorate Identifier 2012-NM-024-AD (78 FR 49213, August 13, 2013), which has since been issued as AD 2014-23-15, Amendment 39-18031 (80 FR 3871, January 26, 2015). (AD 2014-23-15 has since been superseded by AD 2015-05-02, Amendment 39-18112 (80 FR 15152, March 23, 2015)).

We disagree to omit or revise paragraph (h) of this AD. Paragraph (h) of this AD is not a duplicated action. Paragraph (h) of this AD specifies that for Airbus A320 airplanes having pre-modification 160001, that have exceeded 46,400 flight cycles or 92,800 flight hours, whichever occurred first since the airplane's first flight, operators must repair cracks found during accomplishment of Task 534126-01-3, using a method approved by the Manager, International Branch, ANM-116, Transport Airplane Directorate, FAA; or the European Aviation Safety Agency (EASA); or Airbus's EASA Design Organization Approval. This specific condition and corrective action is not included in paragraph (p)(2) of AD 2015-05-02, Amendment 39-18112 (80 FR 15152, March 23, 2015, which corresponds to paragraph (o)(2) of NPRM Docket No. FAA-2013-0692, Directorate Identifier 2012-NM-024-AD (78 FR 49213, August 13, 2013). AD 2015-05-02, does not mandate corrective actions associated with Task 534126-01-3, of the Airworthiness Limitation Section (ALS) Part 2, “Damage-Tolerant Airworthiness Limitation Items” of the Airbus A319/A320/A321 Airworthiness Limitation Items, but instead mandates incorporation of that task into operators' maintenance or inspection programs. We have made no changes to this AD in this regard.

Conclusion

We reviewed the relevant data, considered the comments received, and determined that air safety and the public interest require adopting this AD with the changes described previously and minor editorial changes. We have determined that these minor changes:

• Are consistent with the intent that was proposed in the NPRM (79 FR 59160, October 1, 2014) for correcting the unsafe condition; and

• Do not add any additional burden upon the public than was already proposed in the NPRM (79 FR 59160, October 1, 2014).

We also determined that these changes will not increase the economic burden on any operator or increase the scope of this AD.

Related Service Information Under 1 CFR Part 51

Airbus has issued Airbus Service Bulletin A320-53-1267, Revision 02, dated May 19, 2014; and Airbus Service Bulletin A320-53-1272, Revision 02, dated May 19, 2014. The service information describes procedures for a modification, which includes measuring the diameter of a hole of a fastener and doing a rotating probe inspection, and repairs if necessary. This service information is reasonably available because the interested parties have access to it through their normal course of business or by the means identified in the ADDRESSES section of this AD.

Costs of Compliance

We estimate that this AD affects 851 airplanes of U.S. registry.

We also estimate that it will take about 25 work-hours per product to comply with the basic requirements of this AD. The average labor rate is $85 per work-hour. Required parts will cost about $420 per product. Based on these figures, we estimate the cost of this AD on U.S. operators to be $2,165,795, or $2,545 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0652; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-15-13 Airbus: Amendment 39-18223. Docket No. FAA-2014-0652; Directorate Identifier 2014-NM-076-AD.

(a) Effective Date

This AD becomes effective September 8, 2015.

(b) Affected ADs

None.

(c) Applicability

This AD applies to the airplanes identified in paragraphs (c)(1), (c)(2), and (c)(3) of this AD, certificated in any category, all manufacturer serial numbers, except those on which Airbus Modification 160055 or Airbus Modification 160056 has been embodied in production.

(1) Airbus Model A319-111, -112, -113, -114, -115, -131, -132, and -133 airplanes.

(2) Airbus Model A320-211, -212, -214, -231, -232, and -233 airplanes.

(3) Airbus Model A321-111, -112, -131, -211, -212, -213, -231, and -232 airplanes.

(d) Subject

Air Transport Association (ATA) of America Code 53, Fuselage.

(e) Reason

This AD was prompted by reports of cracks that could be initiated at the waste water service panel area and the potable water service panel area. We are issuing this AD to prevent any cracking at the waste water service panel area and the potable water service panel area, which could affect the structural integrity of the airplane.

(f) Compliance

Comply with this AD within the compliance times specified, unless already done.

(g) Modification

(1) Within the compliance time specified in paragraphs (g)(1)(i), (g)(1)(ii), (g)(1)(iii), (g)(1)(iv), and (g)(1)(v) of this AD, as applicable, modify the potable water service panel, including doing all applicable related investigative and corrective actions, in accordance with the Accomplishment Instructions of Airbus Service Bulletin A320-53-1272, Revision 02, dated May 19, 2014, except where Airbus Service Bulletin A320-53-1272, Revision 02, dated May 19, 2014, specifies to contact Airbus, repair before further flight using a method approved by the Manager, International Branch, ANM-116, Transport Airplane Directorate, FAA; or the European Aviation Safety Agency (EASA); or Airbus's EASA Design Organization Approval (DOA). Do all applicable related investigative and corrective actions within the compliance time specified in paragraphs (g)(1)(i), (g)(1)(ii), (g)(1)(iii), (g)(1)(iv), and (g)(1)(v) of this AD.

(i) For Model A319 airplanes pre-modification 160001: Within 48,500 flight cycles or 97,000 flight hours, whichever occurs first since the airplane's first flight.

(ii) For Model A319 airplanes post-modification 160001: Within 46,000 flight cycles or 92,000 flight hours, whichever occurs first since the airplane's first flight.

(iii) For Model A320 airplanes pre-modification 160001: Within 54,200 flight cycles or 108,400 flight hours, whichever occurs first since the airplane's first flight.

(iv) For Model A320 airplanes post-modification 160001: Within 36,000 flight cycles or 72,000 flight hours, whichever occurs first since the airplane's first flight.

(v) For Model A321 airplanes: Within 60,000 flight cycles or 120,000 flight hours, whichever occurs first since the airplane's first flight.

(2) Within the compliance time specified in paragraphs (g)(2)(i), (g)(2)(ii), (g)(2)(iii), (g)(2)(iv), (g)(2)(v), and (g)(2)(vi) of this AD, as applicable, modify the waste water service panel, including doing all applicable related investigative and corrective actions, in accordance with the Accomplishment Instructions of Airbus Service Bulletin A320-53-1267, Revision 02, dated May 19, 2014, except where Airbus Service Bulletin A320-53-1267, Revision 02, dated May 19, 2014, specifies to contact Airbus, repair before further flight using a method approved by the Manager, International Branch, ANM-116, Transport Airplane Directorate, FAA; or the EASA; or Airbus's EASA DOA. Do all applicable related investigative and corrective actions within the compliance time specified in paragraphs (g)(2)(i), (g)(2)(ii), (g)(2)(iii), (g)(2)(iv), and (g)(2)(v) of this AD.

(i) For Airbus A319 airplanes pre-modification 160001: Within 44,400 flight cycles or 88,800 flight hours, whichever occurs first since the airplane's first flight.

(ii) For Airbus A319 airplanes post-modification 160001: Within 43,600 flight cycles or 87,200 flight hours, whichever occurs first since the airplane's first flight.

(iii) For Airbus A320 airplanes pre-modification 160001, within the compliance times specified in paragraph (g)(2)(iii)(A) or (g)(2)(iii)(B) of this AD, whichever occurs later:

(A) Within 46,400 flight cycles or 92,800 flight hours, whichever occurs first since the airplane's first flight.

(B) Within 2,300 flight cycles or 4,600 flight hours, whichever occurs first since last accomplishment of Task No. 534126-01-3, of the Airworthiness Limitation Section (ALS) Part 2, “Damage-Tolerant Airworthiness Limitation Items” of the Airbus A319/A320/A321 Airworthiness Limitation Items, without exceeding 48,000 flight cycles or 96,000 flight hours, whichever occurs first since the airplane's first flight.

(iv) For Airbus A320 airplanes post-modification 160001: Within 39,200 flight cycles or 78,400 flight hours, whichever occurs first since the airplane's first flight.

(v) For Airbus A321 airplanes pre-modification 160021: Within 51,600 flight cycles or 103,200 flight hours, whichever occurs first since the airplane's first flight.

(vi) For Airbus A321 airplanes post-modification 160021: Within 51,200 flight cycles or 102,400 flight hours, whichever occurs first since the airplane's first flight.

(h) Corrective Action

For Airbus A320 airplanes having pre-modification 160001, that have exceeded 46,400 flight cycles or 92,800 flight hours, whichever occurred first since the airplane's first flight: If any crack is found during accomplishment of Task No. 534126-01-3, of the ALS Part 2, “Damage-Tolerant Airworthiness Limitation Items” of the Airbus A319/A320/A321 Airworthiness Limitation Items, before further flight, repair using a method approved by the Manager, International Branch, ANM-116, Transport Airplane Directorate, FAA; or the EASA; or Airbus's EASA DOA.

(i) Terminating Action for ALS Task

(1) Modification of an airplane as required by paragraph (g)(1) of this AD, terminates the requirement for the task in the ALS Part 2, “Damage-Tolerant Airworthiness Limitation Items” of the Airbus A318/A319/A320/A321 Airworthiness Limitation Items for that airplane, as identified in paragraphs (i)(1)(i), (i)(1)(ii), (i)(1)(iii), (i)(1)(iv), (i)(1)(v), and (i)(1)(vi) of this AD, as applicable.

(i) For Airbus A319 airplanes pre-modification 160001: Task No. 534125-01-2.

(ii) For Airbus A319 airplanes post-modification 160001: Task No. 534125-01-5.

(iii) For Airbus A320 airplanes pre-modification 160001: Task No. 534125-01-3.

(iv) For Airbus A320 airplanes post-modification 160001: Task No. 534125-01-6.

(v) For Airbus A321 airplanes pre-modification 160021: Task No. 534125-01-4.

(vi) For Airbus A321 airplanes post-modification 160021: Task No. 534125-01-7.

(2) Modification of an airplane as required by paragraphs (g)(2) and (g)(3) of this AD, terminates the requirement for the task in the ALS Part 2, “Damage-Tolerant Airworthiness Limitation Items” of the Airbus A318/A319/A320/A321 Airworthiness Limitation Items for that airplane, as identified in paragraphs (i)(2)(i), (i)(2)(ii), (i)(2)(iii), (i)(2)(iv), (i)(2)(v), and (i)(2)(vi) of this AD, as applicable.

(i) For Airbus A319 airplanes pre-modification 160001: Task No. 534126-01-2.

(ii) For Airbus A319 airplanes post-modification 160001: Task No. 534126-01-5.

(iii) For Airbus A320 airplanes pre-modification 160001: Task No. 534126-01-3.

(iv) For Airbus A320 airplanes post-modification 160001: Task No. 534126-01-6.

(v) For Airbus A321 airplanes pre-modification 160021: Task No. 534126-01-4.

(vi) For Airbus A321 airplanes post-modification 160021: Task No. 534126-01-7.

(j) Credit for Previous Actions

(1) This paragraph provides credit for the actions required by paragraph (g)(1) of this AD, if those actions were performed before the effective date of this AD using Airbus Service Bulletin A320-53-1272, dated January 10, 2013; or Airbus Service Bulletin A320-53-1272, Revision 01, dated August 6, 2013; which are not incorporated by reference in this AD.

(2) This paragraph provides credit for the actions required by paragraph (g)(2) of this AD, if those actions were performed before the effective date of this AD using Airbus Service Bulletin A320-53-1267, dated June 24, 2013; or Airbus Service Bulletin A320-53-1267, Revision 01, dated October 2, 2013; which are not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(l) Related Information

(1) Refer to Mandatory Continuing Airworthiness Information (MCAI) EASA Airworthiness Directive 2014-0081, dated March 31, 2014, for related information. This MCAI may be found in the AD docket on the Internet at http://www.regulations.gov/#!documentDetail;D=FAA-2014-0652-0003.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1267, Revision 02, dated May 19, 2014.

(ii) Airbus Service Bulletin A320-53-1272, Revision 02, dated May 19, 2014.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 22, 2015.
Victor Wicklund,
Acting Manager,Transport Airplane Directorate, Aircraft Certification Service.

[FR Doc. 2015-18564 Filed 7-31-15; 8:45 am]

BILLING CODE 4910-13-P